DEPARTMENT OF JUSTICE

Notice of Lodging of Stipulation and Order in In Re Saltire Industrial, Inc. Under the Comprehensive Environmental Response Compensation and Liability Act (CERCLA)

Notice is hereby given that on March 22, 2006, a Stipulation and Order was filed with the United States Bankruptcy Court for the Southern District of New York in In Re Saltire Industrial, Inc., Case No. 04-15389 (BRL) (SDNY), concerning the liabilities of the Debtor for nine hazardous waste sites. Under this Stipulation and Order, EPA has allowed general unsecured claims for the following nine sites in the amounts of: $170,000 for the Solvents Recovery Service of New England Superfund Site in Southington, Connecticut; $717,636 for the Arrowhead Plating Superfund Site in Montross, Virginia; $2,500 for the Sand, Gravel, and Stone Superfund Site in Elkton, Maryland; $78,000 for the Dickson County Landfill Superfund Site in Dickson, Tennessee; $150,000 for the Fultz Landfill Superfund Site in Byesville, Ohio; $1.5 million for the Puente Valley Operable Unit of the San Gabriel Superfund Site, Area 4, in Los Angeles County, California; and $5.3 million for the Scovill Industrial Landfill Superfund Site in Waterbury, Connecticut. Under this Stipulation and Order, EPA has an allowed general unsecured claim in the amount of $3.11 million at the Scovill-Shrader facility in Dickson, Tennessee, as well as an allowed administrative expense claim of $307,000 at this Facility. The Stipulation and Order further provides for the release of $500,000 in an escrow account established pre-bankruptcy pertaining to the Puente Valley Operable Unit of the San Gabriel Superfund Site, Area 4, in Los Angeles County, California. Additionally, the Stipulation and Order notes the Debtor has entered into a separate agreement pertaining to the Caldwell Trucking Superfund Site in Fairfield, New Jersey.

The Department of Justice will receive comments relating to the Stipulation and Order for a period of thirty (30) days from the date of this publication. Comments should be addressed to the Assistant Attorney General, Environment and Natural Resources Division, P.O. Box 7611, U.S. Department of Justice, Washington, DC 20044-7611, and should refer to In Re Saltire Industrial, Inc., No. 05-15389 (BRL) (SDNY), D.J. Ref. 90-11-3-856/2.

The Stipulation and Order may be examined at the Office of the United States Attorney for the Southern District of New York, Civil Division, 86 Chambers Street, 3d Floor, New York, NY 10007, by request to Assistant U.S. Attorney David J. Kennedy, and at the United States Environmental Protection Agency, 401 M Street, SW., Washington, DC 20460. During the public comment period, the Stipulation and Order also may be examined on the Department of Justice Web site, http://www.usdoj.gov/enrd/open.html. A copy of the Stipulation and Order may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $3.00 (25 cents per page reproduction cost) payable to the U.S. Treasury.

Bruce S. Gelber,
Section Chief, Environmental Enforcement Section, Environment and Natural Resources Division.

[FR Doc. 06-3324 Filed 4-5-06; 8:45am]

BILLING CODE 4410-15-M